DEPARTMENT OF LABOR

Employment and Training Administration

[TA-W-57,978]

B.A.G. Corporation; Winzen Film, Inc.; Better Agriculture Goals; A Division of Super Sack Bag, Inc.; Savoy, TX; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on October 18, 2005, applicable to workers of B.A.G. Corporation, a Division of Super Sack Bag, Inc., Savoy, Texas. The notice was published in the Federal Register on November 9, 2005 (70 FR 68099).

At the request of the State agency, the Department reviewed the certification for workers of the subject firm. The workers were engaged in support activities for an affiliated plant engaged in the production of flexible intermediate bulk containers (bulk bags).

New information shows that the B.A.G. Corporation, Winzen Film, Inc. and Better Agriculture Goals are divisions of Super Sack Bag, Inc. Workers separated from employment at the subject firm had their wages reported under two separate unemployment insurance (UI) tax accounts for Winzen Film, Inc. and Better Agriculture Goals.

Accordingly, the Department is amending the certification to properly reflect this matter.

The intent of the Department's certification is to include all workers of B.A.G. Corporation, Savoy, Texas who were adversely affected by a shift of production to Mexico.

The amended notice applicable to TA-W-57,978 is hereby issued as follows:

“All workers of B.A.G. Corporation, Winzen Film, Inc. and Better Agriculture, Goals, A Division of Super Sack Bag, Inc., Savoy, Texas who became totally or partially separated from employment on or after September 15, 2004, through October 18, 2007, are eligible to apply for adjustment assistance under Section 223 of the Trade Act of 1974, and are also eligible to apply for alternative trade adjustment assistance under Section 246 of the Trade Act of 1974.”

Signed at Washington, DC, this 18th day of January 2006.
Elliott S. Kushner,
Certifying Officer, Division of Trade Adjustment Assistance.

[FR Doc. E6-1137 Filed 1-27-06; 8:45 am]

BILLING CODE 4510-30-P